EQUAL EMPLOYMENT OPPORTUNITY COMMISSION

Availability of Guidelines for Ensuring and Maximizing the Quality, Objectivity, Utility, and Integrity of Information Disseminated by U.S. Equal Employment Opportunity Commission

AGENCY: Equal Employment Opportunity Commission.

ACTION: Notice.

SUMMARY: The Equal Employment Opportunity Commission (EEOC) hereby announces the availability of its draft information quality guidelines on its website (hard copy available through its Office of Communications of Legislative Affairs) and seeks public comments on those guidelines.

DATES: Effective Date: May , 2002.

FOR FURTHER INFORMATION CONTACT: Lizette Molina, Special Assistant to the Director, Office of Information Resources Management, 202-663-4446, or Jay Friedman, Director of Strategic Planning and Management Controls Division, Office of Research, Information and Planning, 202-663-4094.

SUPPLEMENTARY INFORMATION: The EEOC has prepared draft Guidelines for Ensuring and Maximizing the Quality, Objectivity, Utility, and Integrity of Information Disseminated by the U.S. Equal Employment Opportunity Commission. These guidelines are available for public comment on EEOC's website www.eeoc.gov. Individuals without Internet access may contact EEOC's Office of Communications and Legislative Affairs at (202) 663-4900 or TTY (202) 663-4494 for a hard copy. Comments from the public regarding these draft guidelines will be accepted until June 8, 2002. Public comment regarding these guidelines may be submitted in writing to: U.S. Equal Employment Opportunity Commission, Office of Research, Information and Planning, Room 8219, Washington, DC 20507. Public comment may also be submitted via facsimile at (202) 663-4093. On the cover sheet indicate the fax is for: U.S. Equal Employment Opportunity Commission, Office of Research, Information and Planning, Room 8219. To submit comment via e-mail, contact guidelinecomments@eeoc.gov.

Dated: May 2, 2002.
Sallie T. Hsieh,
Director, Office of Information, Resources Management.

[FR Doc. 02-11537 Filed 5-8-02; 8:45 am]

BILLING CODE 6570-01-M